FEDERAL COMMUNICATIONS COMMISSION

[DA 00-271]

Extension of Filing Deadline for Comments to the Petitions Filed by SBC Communications Inc. and Nextel Communications, Inc. Regarding PCS C and F Block Rules

AGENCY: Federal Communications Commission.

ACTION: Notice.

SUMMARY: This Public Notice announces an extension of the filing deadline for comments to petitions filed by SBC Communications Inc. and Nextel Communications, Inc.

DATES: Comments are due February 22, 2000 and reply comments are due March 1, 2000.

ADDRESSES: Comments should be filed with the Office of the Secretary, Federal Communications Commission, TW B204, 445 12th St. SW Washington, DC 20554. Comments also should be provided to Amy Zoslov, Chief, Auctions and Industry Analysis Division, Room #4-A624, Wireless Telecommunications Bureau, Federal Communications Commission, 445 12th St. SW Washington, DC 20554.

FOR FURTHER INFORMATION CONTACT: Leora Hochstein of the Auctions and Industry Analysis Division at (202) 418-0660.

SUPPLEMENTARY INFORMATION: This is a summary of Public Notice, DA 00-271 released February 11, 2000. The complete text of the public notice is available for inspection and copying during normal business hours in the FCC Reference Center (Room CY-A257), 445 12th Street, SW, Washington, DC. It may also be purchased from the Commission's copy contractor, International Transcription Services, Inc. (ITS, Inc.) 1231 20th Street, NW, Washington, DC 20036, (202) 857-3800. It is also available on the Commission's website at http://www.fcc.gov.

1. In a Public Notice released on February 3, 2000, the Wireless Telecommunications Bureau (Bureau) sought comment on Nextel Communications, Inc.'s (“Nextel”) petition regarding the PCS C and F block spectrum and extended the filing deadline for comments to SBC Communications Inc.'s (“SBC”) request for waiver of the eligibility requirements for PCS C and F block licenses.¹ Specifically, the Public Notice requested that comments addressing any issues raised by SBC and/or Nextel be filed by February 14, 2000 and that reply comments be filed by February 22, 2000.

¹ “Wireless Telecommunications Bureau Seeks Comment on Nextel Communications, Inc.'s Petition Regarding PCS C and F Block Spectrum; Extension of Filing Deadline for Comments to SBC Communications Inc.'s Request for Waiver,” Public Notice, DA 00-191 (released February 3, 2000). See also “Wireless Telecommunications Bureau Seeks Comment on SBC Communications Inc.'s Request for Waiver of the Eligibility Requirements for Participation in the Upcoming PCS C and F Block Auction,” Public Notice, DA 00-145 (rel. January 31, 2000) (requesting that comments be filed by February 10, 2000 and that reply comments be filed by February 15, 2000).

2. The National Telephone Cooperative Association (“NTCA”), the Office of the Advocacy of the United States Small Business Administration (“Advocacy”) and the Rural Cellular Association (“RCA”) have filed requests for extension of the filing deadline for comments to the petitions filed by SBC and Nextel.² These parties all contend that the comment filing period set by the Bureau does not allow interested parties sufficient time to address the complex issues raised in SBC's and Nextel's submissions.

² See National Telephone Cooperative Association Expedited Request for Extension of Filing Deadline for Comments to SBC Communications Inc.'s and Nextel Communications, Inc.s' Request for Waiver of the Commission's Rules, DA 00-191, filed by NTCA on February 4, 2000; Request for Additional Time to File Comments, DA 00-191, filed by Advocacy on February 7, 2000; Request for Extension of Time, DA 00-191, filed by RCA on February 9, 2000.

3. It is the policy of the Commission that extensions of time shall not be routinely granted.³ Upon review, however, we agree that an extension will afford parties the time to coordinate and file comments that will facilitate the compilation of a more complete record in this proceeding, without causing undue delay to the Commission's consideration of the issues.

³ 47 CFR 1.46.

4. Accordingly, we extend the filing deadline for comments to petitions filed by SBC and Nextel. Comments addressing any issues raised by SBC and/or Nextel must be filed by February 22, 2000, and reply comments are due by March 1, 2000.⁴ Adoption of these deadlines should provide interested parties with an adequate opportunity to prepare and file meaningful comments in this proceeding. Further delay here, however, could have the effect of creating uncertainties for bidders in other spectrum auctions scheduled for this year.

⁴ To the extent that the Bankruptcy Court's February 7, 2000 order may have constrained the Commission in acting on SBC's and Nextel's petitions, the Second Circuit Court of Appeals' order of February 10, 2000 clarifies that the Commission may take this action.

5. In all other respects, the terms and filing instructions set forth in the Public Notice released on February 3, 2000 (DA 00-191) apply.⁵

⁵ See “Wireless Telecommunications Bureau Seeks Comment on Nextel Communications, Inc.'s Petition Regarding PCS C and F Block Spectrum; Extension of Filing Deadline for Comments to SBC Communications Inc.'s Request for Waiver,” Public Notice, DA 00-191 (released February 3, 2000).

6. We reiterate that both SBC's waiver request and Nextel's petition are available for public inspection and copying in the Reference Center, Room CY A257, 445 12th St., SW, Washington, DC 20554. Copies of the request and the petition are also available from ITS at 1231 20th St. NW, Washington, DC 20036, or by calling (202) 857-3800.

Federal Communications Commission.
Louis J. Sigalos,
Deputy Chief, Auctions & Industry Analysis Division.

[FR Doc. 00-4174 Filed 2-22-00; 8:45 am]

BILLING CODE 6712-01-P